DEPARTMENT OF HEALTH AND HUMAN SERVICES

Centers for Disease Control and Prevention

Healthcare Infection Control Practices Advisory Committee (HICPAC); Correction

Notice is hereby given of a change in the meeting of the Healthcare Infection Control Practices Advisory Committee (HICPAC); June 3, 2021, from 9 a.m. to 3 p.m., EDT in the original FRN.

The teleconference was published in the Federal Register on April 9, 2021, Volume 86, Number 67, page 18533.

The teleconference meeting is being corrected to update the time and should read as follows:

SUMMARY: In accordance with the Federal Advisory Committee Act, the CDC announces the following meeting for the Healthcare Infection Control Practices Advisory Committee (HICPAC). This virtual meeting is open to the public, limited only by audio and web conference lines (300 audio and web conference lines are available). Registration is required. To register for this web conference, please go to: www.cdc.gov/hicpac. All registered participants will receive the meeting link and instructions shortly before the meeting.

DATES: The meeting will be held on June 3, 2021, from 12 p.m. to 3 p.m., EDT.

This meeting is open to the public.

FOR FURTHER INFORMATION CONTACT: Koo-Whang Chung, M.P.H., HICPAC, Division of Healthcare Quality Promotion, National Center for Emerging and Zoonotic Infectious Diseases, CDC, 1600 Clifton Road NE, Mailstop H16-3, Atlanta, Georgia 30329-4027, Telephone: (404) 498-0730; Email: HICPAC@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2021-11379 Filed 5-27-21; 8:45 am]

BILLING CODE 4163-18-P